DEPARTMENT OF COMMERCE

National Oceanic and Atmospheric Administration

[RTID 0648-XC104]

15th Scientific Advisory Subcommittee to the General Advisory Committee and 30th General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a public meeting of the 15th Scientific Advisory Subcommittee (SAS) to the General Advisory Committee (GAC), and the 30th GAC to the U.S. Section to the Inter-American Tropical Tuna Commission (IATTC). This meeting will be held as a combined SAS and GAC meeting on Wednesday and Thursday, June 29-30, 2022, via webinar. The meeting topics are described under the SUPPLEMENTARY INFORMATION section of this notice.

DATES: The virtual meeting of the SAS and GAC will be held on Wednesday and Thursday, June 29-30, 2022, from 9 a.m. to 1 p.m. PDT (or until business is concluded).

ADDRESSES: Please notify William Stahnke (see FOR FURTHER INFORMATION CONTACT) if you plan to attend the webinar. Instructions will be emailed to meeting participants before the meeting occurs.

FOR FURTHER INFORMATION CONTACT: William Stahnke, West Coast Region, NMFS, at william.stahnke@noaa.gov, or at (562) 980-4088.

SUPPLEMENTARY INFORMATION: The timing of U.S. SAS and GAC meetings are adjusted based on the dates of the IATTC Annual Meeting. This year, the IATTC convened its 13th Meeting of the Scientific Advisory Committee (SAC) on May 16-20, 2022, and the 100th Annual Meeting of the IATTC will be held on August 1-5, 2022. For 2022, the combined U.S. SAS and GAC Meeting will be held after the IATTC SAC Meeting and before the IATTC Annual Meeting on June 29 and 30. This timing allows for scientific topics presented at the IATTC SAC Meeting, including stock assessments, to be discussed and used to inform U.S. positions at the combined U.S. SAS and GAC Meeting. This meeting will also include updates from IATTC working groups and presentation of draft U.S. proposals to be submitted to the IATTC. An executive session may be called in order to discuss sensitive information, including possible U.S. negotiating positions for the upcoming IATTC Annual Meeting.

In accordance with the Tuna Conventions Act (16 U.S.C. 951 et seq.), the U.S. Department of Commerce, in consultation with the Department of State (the State Department), appoints a GAC to the U.S. Section to the IATTC, and a SAS that advises the GAC. The U.S. Section consists of the four U.S. Commissioners and alternate U.S. Commissioners to the IATTC and representatives of the State Department, NOAA, Department of Commerce, other U.S. Government agencies, and stakeholders. The GAC provides recommendations to the U.S. section of the IATTC. The purpose of the SAS is to advise the GAC on scientific matters and provide recommendations to the GAC. Per TCA, the SAS advises the GAC and the U.S. Commissioners on matters including the conservation of ecosystems, the sustainable uses of living marine resources related to the tuna fishery in the eastern Pacific Ocean, and the long-term conservation and management of stocks of living marine resources in the eastern tropical Pacific Ocean. NMFS West Coast Region staff provides administrative and technical support services as necessary for the effective functioning of the SAS and GAC.

The meetings of the SAS and GAC are open to the public, unless in executive session. The time and manner of public comment will be at the discretion of the Chairs for the SAS and GAC. For more information and updates on these upcoming meetings, please visit the IATTC's website: https://www.iattc.org/MeetingsENG.htm.

SAS and GAC Meeting Topics

Given the virtual nature of these meetings, the agenda will be concise. The SAS and GAC meeting to prepare for the 100th IATTC Annual Meeting is expected to cover a broad spectrum of topics including but not limited to:

(1) Outcomes of the most recent IATTC stock assessments and updates for tuna, tuna-like species, and other species caught in association with those fisheries in the eastern Pacific Ocean;

(2) Evaluation of the IATTC Staff's Recommendations to the Commission for 2022;

(3) Potential U.S. proposal(s) to the IATTC, including on North Pacific albacore;

(4) Updates for upcoming Joint IATTC-WCPFC NC Working Group on PBF meeting;

(5) Recommendations and evaluations by the SAS and GAC; and

(6) Other issues as they arise.

Special Accommodations

Requests for sign language interpretation or other auxiliary aids should be directed to William Stahnke (see FOR FURTHER INFORMATION CONTACT).

Authority: 16 U.S.C. 951 et seq.

Dated: June 9, 2022.
Jennifer M. Wallace,
Acting Director, Office of Sustainable Fisheries, National Marine Fisheries Service.

[FR Doc. 2022-12852 Filed 6-14-22; 8:45 am]

BILLING CODE 3510-22-P